DEPARTMENT OF JUSTICE

Notice of Lodging of Consent Decree Under the Clean Air Act, Comprehensive Environmental Response, Compensation, and Liability Act, and Emergency Planning and Community Right-To-Know Act

Notice is hereby given that on February 10, 2009, a proposed Consent Decree in United States, et al. v. Hermes Consolidated, Inc. dba Wyoming Refining Company, Civil Action No. 09-CV-00028-ABJ was lodged with the United States District Court for the District of Wyoming.

The Consent Decree in this enforcement action against Hermes Consolidated, Inc. (“Hermes”), resolves allegations by the Environmental Protection Agency, asserted in a complaint filed together with the Consent Decree, under Sections 113(b) and 167 of the Clean Air Act, 42 U.S.C. 7413(b) and 7477, Section 109(c) of the Comprehensive Environmental Response, Compensation, and Liability Act, 42 U.S.C. 9609(c), and Section 325(b) of the Emergency Planning and Community Right-to-Know Act, 42 U.S.C. 11045(b), for alleged environmental violations at Hermes's petroleum refinery in Newcastle, Wyoming. The proposed Consent Decree also resolves separate but related state law claims brought by the State of Wyoming, which has intervened in this matter. This is one of numerous national settlements reached as part of the EPA's National Petroleum Refinery Initiative. Consistent with the objectives of EPA's initiative, in addition to the payment of civil penalties, the settlement will require Hermes to perform injunctive relief to reduce emissions of nitrogen oxide, sulfur dioxide, volatile organic compounds, particulate matter, and carbon monoxide at the refinery. Also, the refinery will upgrade its leak detection and repair program to reduce emissions from pumps and valves.

The Department of Justice will receive for a period of thirty (30) days from the date of this publication comments relating to the settlement. Comments should be addressed to the Assistant Attorney General, Environment and Natural Resources Division, and either e-mailed to pubcomment-ees.enrd@usdoj.gov or mailed to P.O. Box 7611, U.S. Department of Justice, Washington, D.C. 20044-7611, and should refer to United States, et al. v. Hermes Consolidated, Inc., Civil Action No. 09-CV-00028-ABJ, D.J. Ref. 90-5-2-1-08001.

The Consent Decree may be examined at: the United States Attorney's Office for the District of Wyoming, 2120 Capitol Avenue—4th Floor, Cheyenne, Wyoming 82001 (request USAO File Number 2006V00090) and U.S. EPA Region 8, 1595 Wynkoop Street, Denver, Colorado 80202-1129 (contact David Rochlin at 303-312-6892). During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $26.00 (25¢ per page reproduction cost) payable to the U.S. Treasury or, if by e-mail or fax, forward a check in that amount to the Consent Decree Library at the stated address.

Robert Brook,
Assistant Chief, Environmental Enforcement Section, Environment and Natural Resources Division.

[FR Doc. E9-3233 Filed 2-13-09; 8:45 am]

BILLING CODE 4410-15-P